DEPARTMENT OF ENERGY

Federal Energy Regulatory Commission

[Project No. 6470-008]

Winooski Hydroelectric Company, Vermont; Notice Soliciting Scoping Comments

Take notice that the following hydroelectric application has been filed with the Commission and is available for public inspection.

a. Type of Application: Subsequent Minor License.

b. Project No.: 6470-008.

c. Date Filed: July 30, 2021.

d. Applicant: Winooski Hydroelectric Company (WHC).

e. Name of Project: Winooski 8 Hydroelectric Project (project).

f. Location: On the Winooski River in Washington County, Vermont. The project does not occupy any federal land.

g. Filed Pursuant to: Federal Power Act, 16 U.S.C. 791(a)-825(r).

h. Applicant Contact: Mathew Rubin, General Partner, Winooski Hydroelectric Company, 26 State Street, Montpelier, Vermont 05602; (802) 793-5939; or email at m@mrubin.biz.

i. FERC Contact: Kristen Sinclair at (202) 502-6587, or kristen.sinclair@ferc.gov.

j. Deadline for filing scoping comments: February 5, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Winooski 8 Hydroelectric Project (P-6470-008).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing project consists of: (1) A 222.5-foot-long, 26-foot-high concrete gravity dam impounding a reservoir with a storage capacity of approximately 20 acre-feet at an elevation of 611.0 feet (when the flashboards are not in place) and 615.0 feet (when the flashboards are in place); (2) a 148-foot-long spillway with 4-foot-high flashboards built into the crest of the dam; (3) a 24-foot-long, hydraulically operated crest gate; (4) a 1,100-square-foot forebay located adjacent to the project impoundment; (5) a 33.5-foot-wide, 28-foot-high concrete intake structure containing three separate intake bays each fitted with a hydraulically operated trashrack with 2-inch spacing between the bars; (6) a 1,550-square-foot powerhouse that contains two semi-Kaplan turbines and one fixed propeller turbine for a total installed capacity of 856 kilowatts; (7) a 100-foot-long tailrace; (8) a 1,000 kilovolt-amp station transformer; (9) a 30-foot long, 13-kilovolt transmission line and (10) appurtenant facilities. The project creates an approximately 160-foot-long bypassed reach of the Winooski River.

WHC voluntarily operates the project in a run-of-river mode. Article 24 of the current license requires WHC to: (1) Maintain a year-round minimum flow of 25 cubic feet per second (cfs) in the bypassed reach (currently via discharge releases from Unit 1).

WHC proposes to: (1) Continue operating the project in a run-of-river mode; (2) continue its current practice of increasing generation flows above inflow rates when the reservoir is drawdown for maintenance, and storing 10 percent of inflow to refill the impoundment; (3) conduct a mussel survey during the first planned impoundment drawdown following the issuance of a new license; (4) implement a proposed Sediment Dredging Management Plan; (5) increase minimum flows in the bypassed reach to 41 cfs during daytime hours from May 1 through October 31 and to 36 cfs the remainder of the year (i.e., during nighttime hours from May 1 through October 31 and during day and night from November 1 through April 30) through a combination of spill and flow through Unit 1 to enhance aesthetics and aquatic habitat in the bypassed reach; (6) when inflow drops below proposed minimum flow levels, prioritize spill flows over the dam rather than discharging flows through Unit 1; and (7) continue to consult with the Vermont Division of Historic Preservation before beginning any land-disturbing activities or alterations to known historic structures within the project boundary.

WHC also proposes to add 3.6 acres to the existing project boundary to enclose the 4,100-foot-long dirt road currently used by WHC to access the dam and powerhouse, and to enclose an existing unimproved recreation site that provides access to the river for boating and fishing activities downstream of the dam.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued December 7, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: December 7, 2021.
Kimberly D. Bose,
Secretary.

[FR Doc. 2021-26904 Filed 12-10-21; 8:45 am]

BILLING CODE 6717-01-P